NUCLEAR REGULATORY COMMISSION

Sunshine Act Meeting

Agency Holding The Meeting: Nuclear Regulatory Commission

DATE: Weeks of February 28, March 6, 13, 20, 27, and April 3, 2000

PLACE: Commissioners' Conference Room, 11555 Rockville Pike, Rockville, Maryland

STATUS: Public and Closed

MATTERS TO BE CONSIDERED:

Week of February 28

Tuesday, February 29

1:30 p.m. Briefing on Draft 50.59 Regulatory Guide (Public Meeting) (Contact: Eileen McKenna, 301-415-2189)

Thursday, March 2

9:25 a.m. Affirmation/discussion and Vote (Public Meeting)

(a) Private Fuel Storage L.L.C., Docket No. 72-22-ISFSI, Memorandum and Order (Denying Request for Admission of Late-Filed Amended Contention Utah C), LBP-99-43, 50 NRC 306 (November 4, 1999)

(b) In the Matter of Michel A. Philippon (Denial of Senior Reactor Operator License Application), LBP-99-44 (December 9, 1999)

9:30 a.m. Meeting with ACRS on Risk Informing Part 50 (Public Meeting) (Contact: John Larkins, 301-415-7360)

Friday, March 3

9:30 a.m. Briefing on Calvert Cliffs License Renewal (Public Meeting) (Contact: Chris Grimes, 301-415-1183)

Week of March 6—Tentative

Monday, March 6

1:30 p.m. Meeting with NARUC (Public Meeting)

Tuesday, March 7

1:00 p.m. Briefing on Improvements in the Reactor Oversight Process (Public Meeting) (Contact: Bill Dean, 301-415-1257)

Week of March 13—Tentative

There are no meetings scheduled for the Week of March 13.

Week of March 20—Tentative

Wednesday, March 22

9:25 a.m. Affirmation Session (Public Meeting) (if needed)

9:30 a.m. Briefing on Risk-Informed Regulation Implementation Plan (Public Meeting) (Contact: Tom King, 301-415-5790)

Friday, March 24

9:30 a.m. Briefing on Evaluation of the Requirement for Licensee to Update Their Inservice Inspection and Inservice Testing Program Every 120 Months (Public Meeting) (Contact: Tom Scarbrough, 301-415-2794)

Week of March 27—Tentative

Thursday, March 30

8:55 a.m. Affirmation/Discussion and Vote (Public Meeting) (If needed)

9:00 a.m. Briefing on EEO Program (Public Meeting) (Contact: Irene Little, 301-415-7380)

Week of April 3—Tentative

There are no meetings scheduled for the Week of April 3.

* THE SCHEDULE FOR COMMISSION MEETINGS IS SUBJECT TO CHANGE ON SHORT NOTICE. TO VERIFY THE STATUS OF MEETINGS CALL (RECORDING)—(301) 415-1292. CONTACT PERSON FOR MORE INFORMATION: Bill Hill (301) 415-1661.

* * * * *

ADDITIONAL INFORMATION: By a vote of 5-0 on February 22, the Commission determined pursuant to U.S.C. 552b(e) and § 9.107(a) of the Commission's rules that “Discussion of Management Issues” (Closed-Ex. 2 & 6) be held on February 22, and on less than one week's notice to the public.

* * * * *

The NRC Commission Meeting Schedule can be found on the Internet at: http://www.nrc.gov/SECY/smj/schedule.htm

* * * * *

This notice is distributed by mail to several hundred subscribers; if you no longer wish to receive it, or would like to be added to it, please contact the Office of the Secretary, Attn: Operations Branch, Washington, DC 20555 (301-415-1661). In addition, distribution of this meeting notice over the Internet system is available. If you are interested in receiving this Commission meeting schedule electronically, please send an electronic message to wmh@nrc.gov or dkw@nrc.gov.

February 24, 2000.
William M. Hill, Jr.,
SECY Tracking Officer, Office of the Secretary.

[FR Doc. 00-5003 Filed 2-28-00; 11:18 am]

BILLING CODE 7590-01-M